DEPARTMENT OF HEALTH AND HUMAN SERVICES

Centers for Disease Control and Prevention

[30Day-08-08BB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Health Hazard Evaluation Program Customer Survey—New—The National Institute for Occupational Safety and Health (NIOSH), Centers for Disease Control and Prevention (CDC).

Background and Brief Description

The Health Hazard Evaluation Program (HHE) was mandated by specific provision of the Occupational Safety and Health Act of 1970 and the Federal Mine Safety Act of 1977. Through the HHE Program, NIOSH responds to requests to identify chemical, biological or physical hazards in workplaces throughout the United States. An HHE Program evaluation can be requested by employers, employees, employee representatives, other federal agencies, and state and local agencies. NIOSH proposes conducting a program of quantitative and qualitative research to help ensure that the HHE Program is responsive to the needs of its customers and enhances the diversity of workplaces and hazards assessed. The information from this research will be used to develop a targeted marketing campaign to increase awareness of and access to HHE Program services. To begin, NIOSH will conduct a Web based survey of potential customers in the Food and Beverage Manufacturing or Services to Buildings and Dwellings industry who are responsible for workplace health and safety. The goals of the survey are to determine: (1) What percentage of customers are familiar with the HHE Program; (2) how customers surveyed prefer to receive occupational safety and health-related information, (3) what occupational safety and health communication products are most useful to customers surveyed; (4) what barriers prevent customers surveyed from using HHE Program resources; (5) what would motivate customers surveyed to use HHE Program resources; and (6) what are the top occupational safety and health concerns of those surveyed. This will be followed by qualitative research (focus groups) to determine (1) what concepts are most effective at raising awareness of the HHE Program with consumers, and (2) what messages should be used to inform customers about the HHE Program. The results from both phases of this research will be used to design and refine a targeted marketing campaign before materials are promoted and distributed nationally. Each phase will be conducted over a two to three month period.

There will be no cost to the respondents other than their time. The total estimated annualized burden hours are 1,880.

Estimated Annualized Burden Hours
Type of respondent | Number of respondents | Number of responses per respondent | Average burden per response (in hours)
Customer Survey Pretest Respondent | 32 | 1 | 15/60
Customer Survey Respondent | 5,760 | 1 | 15/60
Customer Focus Group Screener Respondent | 216 | 1 | 15/60
Customer Focus Group Concept Testing Respondent | 108 | 1 | 2
Customer Focus Group Material Testing Respondent | 108 | 1 | 1.5

Dated: October 24, 2008.
Maryam I. Daneshvar,
Acting Reports Clearance Officer, Centers for Disease Control and Prevention.

[FR Doc. E8-25897 Filed 10-29-08; 8:45 am]

BILLING CODE 4163-18-P